DEPARTMENT OF TRANSPORTATION

Federal Highway Administration

Environmental Impact Statement: Jackson County, OR

AGENCY: Federal Highway Administration (FHWA), DOT.

ACTION: Notice of intent.

SUMMARY: The FHWA is issuing this notice to advise the public that an Environmental Impact Statement (EIS) will be prepared for a proposed transportation improvement in the City of Medford, Jackson County, Oregon.

FOR FURTHER INFORMATION CONTACT: Elton Chang, Environmental Coordinator, Federal Highway Administration, The Equitable Center, 530 Center Street, NE., Suite 100, Salem, Oregon 97301, Telephone: (503) 399-5749, elton.chang@fhwa.dot.gov.

SUPPLEMENTARY INFORMATION: The FHWA, in cooperation with the Oregon Department of Transportation (ODOT), will prepare an (EIS) on a proposal to solve the long-term (design year 2025) transportation demands in the Oregon Highway 62 / Crater Lake Highway Corridor. Improvements are considered necessary to provide for existing and projected traffic demand and a safe and efficient transportation system meeting modern design standards. The Oregon Highway Plan classifies this segment of Oregon Highway 62 as a Statewide National Highway and a freight route of statewide significance. Alternatives will be developed as part of the Alternatives Analysis component that will be incorporated into the EIS. Alternatives under consideration include (1) taking into action; (2) improving the existing Oregon Highway 62 / Crater Lake Highway corridor with a series of access/frontage roads; and (3) construction of a new roadway on new alignment to reduce congestion in the corridor. Phased construction/improvements will be evaluated during the project development process, including evaluating interim solutions for a highway segment between the intersections of Poplar Drive and Delta Waters. Various build alternatives to be studied will include design variations of grade and alignment. Build alternatives will also consider improvements to the existing transit service; use of Transportation System Management, and Transportation Demand Management measures to alleviate traffic congestion; improvements to bicycle and pedestrian facilities; and access management.

Information describing the proposed action and soliciting comments will be sent to appropriate Federal, State, and local agencies, and to private organizations and citizens who have expressed or are known to have an interest in this proposal. Formal agency and public scoping meetings as well as additional public and agency meetings will be held during the course of the National Environmental Policy Act process. In addition, a public hearing will be held. The draft EIS will be available for public and agency review and comments prior to the public hearing. To ensure that the full range of issues related to this proposed action are addressed and all significant issues identified, comments and suggestions are invited from all interested parties.

Comments or questions concerning this proposed action and the EIS should be directed to the FHWA at the address provided above.

(Catalogue of Federal Domestic Assistance Program Number 20.205, Highway Planning and Construction. The regulations implementing Executive Order 12372 regarding intergovernmental consultation on Federal programs and activities apply to this program)

Issued on: October 27, 2005.
Elton Chang,
Environmental Coordinator, Oregon Division, FHWA.

[FR Doc. 05-21911 Filed 11-2-05; 8:45 am]

BILLING CODE 4910-22-M